FEDERAL MARITIME COMMISSION

Notice of Agreement Filed

The Commission hereby gives notice of the filing of the following agreement under the Shipping Act of 1984. Interested parties may submit comments on the agreement to the Secretary, Federal Maritime Commission, Washington, DC 20573, within ten days of the date this notice appears in the Federal Register. Copies of the agreements are available through the Commission's Web site (www.fmc.gov) or by contacting the Office of Agreements at (202) 523-5793 or tradeanalysis@fmc.gov.

Agreement No.: 012164.

Title: KL/WHS Space Charter and Sailing Agreement.

Parties: Kawasaki Kisen Kaisha, Ltd. and Wan Hai Lines (Singapore) PTE Ltd.

Filing Party: Robert B. Yoshitomi, Esq., Nixon Peabody LLP, Gas Company Tower, 555 West Fifth Street, 46th Floor, Los Angeles, CA 90013.

Synopsis: The agreement authorizes K Line and Wan Hai to charter space on their respective vessels, coordinate their sailings, and cooperate in the carriage of cargo in the trade between China, Japan, and the Pacific Coast of the United States.

By Order of the Federal Maritime Commission.
Dated: April 13, 2012.
Karen V. Gregory,
Secretary.

[FR Doc. 2012-9390 Filed 4-17-12; 8:45 am]

BILLING CODE 6730-01-P